DEPARTMENT OF THE INTERIOR

National Park Service

[NPS-WASO-NRNHL-DTS#-31538; PPWOCRADI0, PCU00RP14.R50000]

National Register of Historic Places; Notification of Pending Nominations and Related Actions

AGENCY: National Park Service, Interior.

ACTION: Notice.

SUMMARY: The National Park Service is soliciting electronic comments on the significance of properties nominated before February 20, 2021, for listing or related actions in the National Register of Historic Places.

DATES: Comments should be submitted electronically by March 17, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before February 20, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Sacramento County

Jefferson, Thomas, School, 1619 N St., Sacramento, SG100006319

North Sacramento School, 670 Dixieanne Ave., Sacramento, SG100006320

Santa Clara County

Pomeroy Green, 1087-1151 Pomeroy Ave. and 3201-3289 Benton St., Santa Clara, SG100006330

GEORGIA

Effingham County

Springfield Historic District, Roughly bounded by Railroad and 2nd Aves., Laberta Cir., Early, Cedar, 3rd, and 4th Sts., Springfield, SG100006329

Fulton County

Methodist Cemetery, 100 Woodstock St., Roswell, SG100006327

Upson County

Silvertown Historic District, Approx. 1 mile north of downtown along GA 19, Thomaston, SG100006336

KANSAS

Douglas County

Zimmerman Steel Company (Lawrence, Kansas MPS), 701 E 19th St., Lawrence, MP100006322

Ellis County

Washington Grade School, (Public Schools of Kansas MPS), 305 Main St., Hays, MP100006323

McPherson County

Pearson, Anton, House and Studio, 505 South Main St., Lindsborg, SG100006324

Miami County

Miami County Mercantile Company, 121 South Pearl St., Paola, SG100006325

Sedgwick County

Garvey Center, 200-220-250-300 West Douglas Ave., Wichita, SG100006328

Shawnee County

Evergreen Court Apartments, 3311-3321 SW 10th Ave., Topeka, SG100006326

MAINE

Androscoggin County

Lincoln Street Fire Station, 188 Lincoln St., Lewiston, SG100006334

Franklin County

Phillips High School, 96 Main St., Phillips, SG100006335

MICHIGAN

Benzie County

Frostic, Gwen, Studio, 5140 River Rd., Benzonia Township, SG100006321

UTAH

Tooele County

Black Rock Site, 2.5 mi. west of jct. UT 202 and I 80, Lake Point vicinity, SG100006332

WASHINGTON

Chelan County

Brown's First Addition Historic District, 900 blk. of South Highland Dr., Wenatchee, SG100006343

Additional documentation has been received for the following resource:

UTAH

Cache County

Clarkston Tithing Granary (Additional Documentation) (Tithing Offices and Granaries of the Mormon Church TR), 80 West Center St., Clarkston, AD85000250

Nomination submitted by Federal Preservation Officers:

The State Historic Preservation Officer reviewed the following nomination and responded to the Federal Preservation Officer within 45 days of receipt of the nomination and supports listing the property in the National Register of Historic Places.

INDIANA

Floyd County

U.S. Court House and Federal Office Building, 121 West Spring St., New Albany, SG100006338

Authority: Section 60.13 of 36 CFR part 60.

Dated: February 23, 2021.
Sherry A. Frear,
Chief, National Register of Historic Places/National Historic Landmarks Program.

[FR Doc. 2021-04249 Filed 3-1-21; 8:45 am]

BILLING CODE 4312-52-P